DEPARTMENT OF TRANSPORTATION

National Highway Traffic Safety Administration

[Docket No. NHTSA-2010-0064; Notice 1]

Bentley Motors Inc., Receipt of Petition for Decision of Inconsequential Noncompliance

Bentley Motors Inc. (BMI),¹ has determined that unknown number of replacement seat belts that it imported do not include the installation and usage instructions required by paragraphs S4.1(k) and S4.1(l) of Federal Motor Vehicle Safety Standard (FMVSS) No. 209, Seat Belt Assemblies. BMI filed an appropriate report pursuant to 49 CFR Part 573, “Defect and Noncompliance Responsibility and Reports” on December 18, 2009.

¹ Bentley Motors Inc. is a Delaware Corporation that imports motor vehicles and replacement equipment.

Pursuant to 49 U.S.C. 30118(d) and 30120(h) (see implementing rule at 49 CFR part 556), BMI has petitioned for an exemption from the notification and remedy requirements of 49 U.S.C. Chapter 301 on the basis that this noncompliance is inconsequential to motor vehicle safety.

This notice of receipt of BMI's petition is published under 49 U.S.C. 30118 and 30120 and does not represent any agency decision or other exercise of judgment concerning the merits of the petition.

BMI explained that approximately 300 nonconforming seat belt assemblies, produced during the 12 months prior to December 18, 2009, and an additional unknown number produced prior to that by its manufacturer, Bentley Motors, Ltd, which is based in the United Kingdom, were imported by BMI and sold to its authorized dealers in the United States for replacement purposes.

Paragraphs S4.1(k) and S4.1(l) of FMVSS No. 209 requires:

(k) Installation instructions. A seat belt assembly, other than a seat belt assembly installed in a motor vehicle by an automobile manufacturer, shall be accompanied by an instruction sheet providing sufficient information for installing the assembly in a motor vehicle. The installation instructions shall state whether the assembly is for universal installation or for installation only in specifically stated motor vehicles, and shall include at least those items specified in SAE Recommended Practice J800c, “Motor Vehicle Seat Belt Installations,” November 1973. If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

(l) Usage and maintenance instructions. A seat belt assembly or retractor shall be accompanied by written instructions for the proper use of the assembly, stressing particularly the importance of wearing the assembly snugly and properly located on the body, and on the maintenance [o]f the assembly and periodic inspection of all components. The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

BMI described the noncompliance as the failure to provide both installation and use instructions with the seat belt assemblies as required in FMVSS No. 209 S4.1(k) and S4.1(l).

BMI noted that the noncompliant seat belts can be identified by part number for specific vehicle applications and are labeled by model number, name of manufacturer, and date of production in accordance with paragraph S4.1(j) of FMVSS No. 209.

BMI provided the basis of why they believe this noncompliance is inconsequential to motor vehicle safety. In essence, the BMI stated that:

• Seat belts currently sold by BMI to its dealers are only for installation as replacement [seat] belts in specific seating positions in Bentley vehicles and are identified by part number in the parts catalogue for use in specific vehicle models and seat positions. This method of identification and the physical differences between belt retractors and attachment hardware as well as the vehicle installation environment preclude the mis-installation of seat belt assemblies.

• Seat belt assembly installation instructions are included in Bentley Service Manuals available to all Bentley Independent repair shops and individual owners can also purchase the Service Manual or seek dealer assistance and obtain copies of the instructions, if necessary. In most cases, reference to the installation instructions will not be necessary because the seat belt installation will be to replace an existing belt and the installation procedure will just be the reverse of the removal procedure.

• Seat belt use instructions regarding proper seat belt positioning on the body and proper maintenance and periodic inspection for damage are, and have been included, in all Bentley owners' manuals.

• BMI has developed installation and use instructions for replacement seat belt assemblies. This material is being placed into the packages of seat belts currently in BMI's service parts warehouses. The required material will also be included with all seat belt assemblies shipped to BMI for resale to dealers in the future.

• BMI is not aware of owner complaints or field incident reports relating to the lack of installation and use instructions with replacement seat belt assemblies.

In view of the above, BMI believes that the described noncompliance is inconsequential and does not present a risk to motor vehicle safety. Thus, BMI requests that its petition, to exempt it from providing recall notification of noncompliance as required by 49 U.S.C. 30118 and remedying the recall noncompliance as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: July 23, 2010.

Authority: (49 U.S.C. 30118, 30120: delegations of authority at CFR 1.50 and 501.8)

Issued on: June 16, 2010.
Claude H. Harris,
Director, Office of Vehicle Safety Compliance.

[FR Doc. 2010-15112 Filed 6-22-10; 8:45 am]

BILLING CODE 4910-59-P